JUDICIAL CONFERENCE OF THE UNITED STATES

Meeting of the Judicial Conference Committee on Rules of Practice and Procedure

AGENCY: Judicial Conference of the United States Advisory Committee on Rules of Civil Procedure.

ACTION: Notice of Public Hearing.

SUMMARY: On February 7, 2014, the Advisory Committee on Rules of Civil Procedure will hold a one-day public hearing on the proposed amendments to Civil Rules 1, 4, 6, 16, 26, 30, 31, 33, 34, 36, 37, 55, 84, and Appendix of Forms.

DATES: February 7, 2014.

Time: 9:00 a.m. to 5:00 p.m.

ADDRESSES: Grand Hyatt DFW, 2337 S. International Parkway, DFW Airport, Texas 75261.

FOR FURTHER INFORMATION CONTACT: Jonathan C. Rose, Secretary and Chief Rules Officer, Rules Committee Support Office, Administrative Office of the United States Courts, Washington, DC 20544, telephone (202) 502-1820.

Dated: December 27, 2013.
Jonathan C. Rose,
Secretary and Chief Rules Officer.

[FR Doc. 2013-31422 Filed 12-31-13; 8:45 am]

BILLING CODE 2210-55-P